INTERNATIONAL TRADE COMMISSION

[Inv. No. 337-TA-469]

Certain Bearings and Packaging Thereof; Notice of Commission Determination To Reverse an Initial Determination of the Administrative Law Judge That Section 337 Has Been Violated; Termination of Investigation With a Finding of No Violation of Section 337

AGENCY: U.S. International Trade Commission.

ACTION: Notice.

SUMMARY: Notice is hereby given that the U.S. International Trade Commission has determined to reverse the presiding administrative law judge's finding of violation of section 337 of the Tariff Act of 1930, as amended, in the above-referenced investigation, and has terminated the investigation with a finding of no violation of section 337.

FOR FURTHER INFORMATION CONTACT: Jean Jackson, Esq., Office of the General Counsel, U.S. International Trade Commission, 500 E Street, SW., Washington, DC 20436, telephone (202) 205-3104. Copies of the Commission's Order, the public version of the ALJ's final initial determination (ID), and all other nonconfidential documents filed in connection with this investigation are or will be available for inspection during official business hours (8:45 a.m. to 5:15 p.m.) in the Office of the Secretary, U.S. International Trade Commission, 500 E Street, SW., Washington, DC 20436, telephone 202-205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on 202-205-1810.

SUPPLEMENTARY INFORMATION: The Commission instituted this investigation on April 16, 2002, based on a complaint filed by SKF USA, Inc. (SKF USA) of Norristown, PA against fourteen respondents. 67 FR. 18632 (2002). Four respondents remain active in the investigation, with ten respondents having either settled with complainant or been found in default. The complaint, as supplemented, alleged violations of section 337 of the Tariff Act of 1930 in the importation into the United States, sale for importation, and sale within the United States after importation of certain bearings by reason of infringement of registered and common law trademarks, dilution of trademarks, various acts in violation of the Lanham Act, and passing off. A count concerning “unfair pecuniary benefits” was dismissed by the Commission on September 23, 2002.

On April 10, 2003, the ALJ issued his ID on violation and his recommended determination on remedy and bonding. The ALJ found a violation of section 337 by reason of infringement of SKF USA's registered and common law trademarks by each of the four remaining respondents, viz., Bearings Limited, Bohls Bearing and Transmission Service, CST Bearing Company, and McGuire Bearings Company, and recommended the issuance of a general exclusion order and cease and desist orders to the respondents found in violation. All active parties remaining in the investigation, including the Commission investigative attorney, filed petitions for review on April 21, 2003, and replies to the petitions on April 28, 2003.

On May 27, 2003, the Commission determined to review the ID in part and asked the parties to brief several questions relating to the issue of material differences in the context of trademark infringement by gray market goods. 68 FR 32766-7 (June 2, 2002). Responses to the Commission's questions were filed on June 6, 2003, by all parties remaining in the investigation. Replies to the responses were filed by the same parties on June 13, 2003. Having examined the parties' submissions and the record in this investigation, including the ALJ's ID, the petitions for review, and the responses thereto, the Commission determined on August 6, 2003, to remand the investigation to the ALJ for further fact finding concerning the material differences between complainant's and respondents' bearings. In order to allow sufficient time for the further fact finding, the Commission extended the target date for completion until May 12, 2004. The ALJ issued his additional findings on December 30, 2003. The parties to the investigation filed comments on the additional findings on January 12, 2004, and response comments on January 20, 2004.

The authority for the Commission's determination is contained in section 337 of the Tariff Act of 1930, as amended (19 U.S.C. 1337), and in section 210.45(c) of the Commission's Rules of Practice and Procedure (19 CFR 210.45(c)).

Issued: May 12, 2004.
By order of the Commission.
Marilyn R. Abbott,
Secretary to the Commission.

[FR Doc. 04-11190 Filed 5-17-04; 8:45 am]

BILLING CODE 7020-02-P